DEPARTMENT OF THE INTERIOR

National Park Service

[NPS-WASO-NAGPRA-NPS0024526; PPWOCRADN0-PCU00RP14.R50000]

Notice of Intent To Repatriate Cultural Items: Thomas Gilcrease Institute of American History and Art, Tulsa, OK

AGENCY: National Park Service, Interior.

ACTION: Notice.

SUMMARY: The Thomas Gilcrease Institute of American History and Art (Gilcrease Museum), in consultation with the appropriate Indian Tribes or Native Hawaiian organizations, has determined that the cultural item listed in this notice meets the definition of a sacred object and object of cultural patrimony. Lineal descendants or representatives of any Indian Tribe or Native Hawaiian organization not identified in this notice that wish to claim this cultural item should submit a written request to the Gilcrease Museum. If no additional claimants come forward, transfer of control of the cultural item to the lineal descendants, Indian Tribes, or Native Hawaiian organizations stated in this notice may proceed.

DATES: Lineal descendants or representatives of any Indian Tribe or Native Hawaiian organization not identified in this notice that wish to claim this cultural item should submit a written request with information in support of the claim to the Gilcrease Museum at the address in this notice by March 1, 2018.

ADDRESSES: Laura Bryant, Anthropology Collections Manager, Thomas Gilcrease Institute of American History and Art, 1400 North Gilcrease Museum Road, Tulsa, OK 74127, telephone (918) 596-2747, email laura-bryant@utulsa.edu.

SUPPLEMENTARY INFORMATION: Notice is here given in accordance with the Native American Graves Protection and Repatriation Act (NAGPRA), 25 U.S.C. 3005, of the intent to repatriate a cultural item under the control of the Gilcrease Museum that meets the definition of a sacred object and object of cultural patrimony under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Item

In the early to mid-1900s, one cultural item was removed from an unknown location, likely in Alaska, and was purchased by Thomas Gilcrease, whose collection founded the Gilcrease Museum. The exact circumstances of how the purchase was made, including whether a dealer or gallery was involved, are unknown. The one sacred object and object of cultural patrimony is a Chilkat robe made from mountain goat wool and cedar bark and depicting a Killer Whale crest, which the Central Council of the Tlingit and Haida Indian Tribes identified as belonging to the Dak'laweidi Clan.

During consultation, representatives of the Central Council of the Tlingit and Haida Indian Tribes stated that Dak'laweidi Clan property cannot be transferred, conveyed, or alienated unless all members of the Clan agree, and therefore, no one individual had the legal right to alienate the Killer Whale Chilkat robe. They also stated that Killer Whale Chilkat robes also are contemporarily worn at traditional ceremonies and potlatches, and play an important role in funerary rites. This usage was confirmed by the Kootznoowoo Cultural and Educational Foundation and independent scholars. The Dak'laweidi Clan provided photographic evidence of an identical Killer Whale Chilkat robe being worn by Mr. Mark Jacobs, Sr., and of Mr. Frank Paul, Sr., dancing in a similar Chilkat robe and a Killer Whale hat.

Determinations Made by the Gilcrease Museum

Officials of the Gilcrease Museum have determined that:

• Pursuant to 25 U.S.C. 3001(3)(C), the one cultural item described above is a specific ceremonial object needed by traditional Native American religious leaders for the practice of traditional Native American religions by their present-day adherents.

• Pursuant to 25 U.S.C. 3001(3)(D), the one cultural item described above has ongoing historical, traditional, or cultural importance central to the Native American group or culture itself, rather than property owned by an individual.

• Pursuant to 25 U.S.C. 3001(2), there is a relationship of shared group identity that can be reasonably traced between the sacred object and object of cultural patrimony and the Central Council of the Tlingit and Haida Indian Tribes.

Additional Requestors and Disposition

Lineal descendants or representatives of any Indian Tribe or Native Hawaiian organization not identified in this notice that wish to claim this cultural item should submit a written request with information in support of the claim to Laura Bryant, Gilcrease Museum, 1400 North Gilcrease Museum Road, Tulsa, OK 74127, telephone (918) 596-2747, email laura-bryant@utulsa.edu, by March 1, 2018. After that date, if no additional claimants have come forward, transfer of control of the sacred object and object of cultural patrimony to the Central Council of the Tlingit and Haida Indian Tribes may proceed.

The Gilcrease Museum is responsible for notifying the Central Council of the Tlingit and Haida Indian Tribes that this notice has been published.

Dated: October 23, 2017.
Melanie O'Brien,
Manager, National NAGPRA Program.

Editorial Note: The Office of the Federal Register received this notice on January 25, 2018.

[FR Doc. 2018-01712 Filed 1-29-18; 8:45 am]

BILLING CODE 4312-52-P